DEPARTMENT OF COMMERCE

International Trade Administration

A-570-891

Hand Trucks and Certain Parts Thereof from the People's Republic of China; Final Results of 2005-2006 Administrative Review

AGENCY: Import Administration, International Trade Administration, Department of Commerce.

SUMMARY: The Department of Commerce (“the Department”) published its preliminary results of administrative review of the antidumping duty order on hand trucks and certain parts thereof (“hand trucks”) from the People's Republic of China (“PRC”) on January 14, 2008. The period of review (“POR”) is December 1, 2005, through November 30, 2006. We invited interested parties to comment on our preliminary results. Based on our analysis of the comments received, we have made changes to our preliminary results. Therefore, the final results differ from the preliminary results. The final dumping margin for this review is listed in the “Final Results of Review” section below.

EFFECTIVE DATE: July 28, 2008.

FOR FURTHER INFORMATION CONTACT: Paul Stolz or Eugene Degnan, AD/CVD Operations, Office 8, Import Administration, International Trade Administration, U.S. Department of Commerce, 14th Street and Constitution Avenue, NW, Washington, DC 20230; telephone (202) 482-4474 or (202) 482-0414, respectively.

SUPPLEMENTARY INFORMATION:

Background

On January 14, 2008, the Department published its preliminary results. See Hand Trucks and Certain Parts Thereof from the People's Republic of China; Preliminary Results, Partial Intent to Rescind and Partial Rescission of the 2005-06 Administrative Review, 73 FR 2214 (January 14, 2008) (“Preliminary Results”). On February 19, 2008, the Department informed interested parties that it was postponing the due dates for submission of case briefs and rebuttal briefs. The Department conducted on-site verification of Qingdao Taifa Group Co., Ltd.'s (“Taifa”) questionnaire response from April 15 through April 18, 2008, in Qingdao, PRC. On May 16, 2008, the Department published an extension of the time limit for the final results to July 14, 2008. See Hand Trucks and Certain Parts Thereof from the People's Republic of China: Extension of Time Limits for the Final Results of the Antidumping Duty Administrative Review, 73 FR 28431 (May 16, 2008). On June 13, 2008, the Department released the verification report covering the verification of Taifa and informed interested parties that case briefs were due on June 20, 2008, and rebuttal briefs were due on June 25, 2008. On June 20, 2008, Gleason Industrial Products, Inc. and Precision Products, Inc. (i.e., Petitioners) submitted a case brief. No other interested party submitted a case brief. No interested party submitted a rebuttal brief. On January 24, 2008, Petitioners requested a hearing. On June 23, 2008, Petitioners withdrew their request for a hearing. We have conducted this administrative review in accordance with section 751 of the Tariff Act of 1930, as amended (“the Act”), and 19 CFR 351.213 and 351.221, as appropriate.

Period of Review

The POR is December 1, 2005, through November 30, 2006.

Scope of Order

The product covered by this order consists of hand trucks manufactured from any material, whether assembled or unassembled, complete or incomplete, suitable for any use, and certain parts thereof, namely the vertical frame, the handling area and the projecting edges or toe plate, and any combination thereof.

A complete or fully assembled hand truck is a hand-propelled barrow consisting of a vertically disposed frame having a handle or more than one handle at or near the upper section of the vertical frame; at least two wheels at or near the lower section of the vertical frame; and a horizontal projecting edge or edges, or toe plate, perpendicular or angled to the vertical frame, at or near the lower section of the vertical frame. The projecting edge or edges, or toe plate, slides under a load for purposes of lifting and/or moving the load.

That the vertical frame can be converted from a vertical setting to a horizontal setting, then operated in that horizontal setting as a platform, is not a basis for exclusion of the hand truck from the scope of this petition. That the vertical frame, handling area, wheels, projecting edges or other parts of the hand truck can be collapsed or folded is not a basis for exclusion of the hand truck from the scope of the petition. That other wheels may be connected to the vertical frame, handling area, projecting edges, or other parts of the hand truck, in addition to the two or more wheels located at or near the lower section of the vertical frame, is not a basis for exclusion of the hand truck from the scope of the petition. Finally, that the hand truck may exhibit physical characteristics in addition to the vertical frame, the handling area, the projecting edges or toe plate, and the two wheels at or near the lower section of the vertical frame, is not a basis for exclusion of the hand truck from the scope of the petition.

Examples of names commonly used to reference hand trucks are hand truck, convertible hand truck, appliance hand truck, cylinder hand truck, bag truck, dolly, or hand trolley. They are typically imported under heading 8716.80.50.10 of the Harmonized Tariff Schedule of the United States (“HTSUS”), although they may also be imported under heading 8716.80.50.90. Specific parts of a hand truck, namely the vertical frame, the handling area and the projecting edges or toe plate, or any combination thereof, are typically imported under heading 8716.90.50.60 of the HTSUS. Although the HTSUS subheadings are provided for convenience and customs purposes, the Department's written description of the scope is dispositive.

Excluded from the scope are small two-wheel or four-wheel utility carts specifically designed for carrying loads like personal bags or luggage in which the frame is made from telescoping tubular material measuring less than 5/8 inch in diameter; hand trucks that use motorized operations either to move the hand truck from one location to the next or to assist in the lifting of items placed on the hand truck; vertical carriers designed specifically to transport golf bags; and wheels and tires used in the manufacture of hand trucks.

Rescission of Review

In our Preliminary Results, we preliminarily rescinded the review with respect to Since Hardware (Guangzhou) Co., Ltd. (“Since Hardware”); Formost Plastics & Metalworks (Jiazing) Co., Ltd. (“Formost”); and Forecarry Corp (“Forecarry”), in accordance with 19 CFR 351.213(d)(3), because we found no evidence of exports from these three entities during the POR. We reviewed U.S. Customs and Border Protection (“CBP”) entry data for the POR, which indicated no exports from these three entities during the POR. See the memorandum to the file “U.S. Customs and Border Protection Data - No Shipments” dated July 1, 2008. Therefore, we are rescinding the administrative review with respect to Since Hardware, Formost, and Forecarry.

Analysis of Comments Received

All issues raised in the post-preliminary comments by parties in this review are addressed in the memorandum from Stephen J. Claeys, Deputy Assistant Secretary for Import Administration, to David M. Spooner, Assistant Secretary for Import Administration, “Issues and Decision Memorandum for the -Antidumping DutyAdministrative Review of Hand Trucks and Certain Parts Thereof from the People's Republic of China” dated July 14, 2008 (“Issues and Decision Memorandum”), which is hereby adopted by this notice. A list of the issues which parties raised and to which we responded in the Issues and Decision Memorandum is attached to this notice as an appendix. The Issues and Decision Memorandum is a public document which is on file in the Central Records Unit, Room 1117, of the main Department building, and is accessible on the Web at http://ia.ita.doc.gov/frn. The paper copy and electronic version of the memorandum are identical in content.

Facts Available

A. Application of Facts Available

Section 776(a)(1) and (2) of the Act provides that the Department shall apply “facts otherwise available” if, inter alia, necessary information is not on the record or an interested party or any other person (A) withholds information that has been requested, (B) fails to provide information within the deadlines established, or in the form and manner requested by the Department, subject to subsections (c)(1) and (e) of section 782 of the Act, (C) significantly impedes a proceeding, or (D) provides information that cannot be verified as provided by section 782(i) of the Act.

Where the Department determines that a response to a request for information does not comply with the request, section 782(d) of the Act provides that the Department will so inform the party submitting the response and will, to the extent practicable, provide that party the opportunity to remedy or explain the deficiency. If the party fails to remedy the deficiency within the applicable time limits and subject to section 782(e) of the Act, the Department may disregard all or part of the original and subsequent responses, as appropriate. Section 776(b) of the Act further provides that the Department may use an adverse inference in applying the facts otherwise available when a party has failed to cooperate by not acting to the best of its ability to comply with a request for information. Such an adverse inference may include reliance on information derived from the petition, the final determination, a previous administrative review, or other information placed on the record.

Section 776(c) of the Act provides that, when the Department relies on secondary information rather than on information obtained in the course of an investigation or review, it shall, to the extent practicable, corroborate that information from independent sources that are reasonably at its disposal. Secondary information is defined as “[i]nformation derived from the petition that gave rise to the investigation or review, the final determination concerning the subject merchandise, or any previous review under section 751 concerning the subject merchandise.” See Statement of Administrative Action to the Uruguay Round Agreements Act, H.R. Doc. 103-316 at 870 (1994) (“SAA”). Corroborate means that the Department will satisfy itself that the secondary information to be used has probative value. Id. To corroborate secondary information, the Department will, to the extent practicable, examine the reliability and relevance of the information to be used.

Taifa

We conducted verification of Taifa from April 15 through April 18, 2008. See “Verification of the Sales and Factors Response of Qingdao Taifa Group Import and Export Co., Ltd. and Qingdao Taifa Group Co., Ltd. in the Review of Hand Trucks and Certain Parts Thereof From the People's Republic of China” (“Taifa Verification Report”), dated June 12, 2008. During verification, Taifa withheld information that had been requested and significantly impeded the proceeding by not cooperating to the best of its ability at verification. Additionally, the Department could not verify information that Taifa had provided in its questionnaire response. For example, Taifa consistently maintained in its questionnaire responses that the hand trucks that it sold did not have wheels attached and that it did not sell wheels in conjunction with hand trucks. All control numbers reported in Taifa's U.S. sales and factors-of production (“FOP”) databases submitted to the Department begin with the number “2” indicating that the hand truck is “Fully Assembled Hand Truck Without Wheels.” See Taifa's August 14, 2007, Sections C and D questionnaire response (“August 14 Response”) at page 9 and Exhibit C-1 and D-4 thereto. See also Taifa's December 26, 2007, supplemental questionnaire response (“December 26 Response”) in which Taifa states at page 2, “ . . . Taifa sold hand trucks to the United States without wheels, tires or tyres.” In addition, Taifa states at page 3 of the December 26 Response: 1) “ . . . Taifa's customers purchase hand trucks (without wheels) and wheels separately“; and 2) Taifa's U.S. customers may purchase wheels from any companies in China, though they purchased hand trucks (without wheels) from Taifa with Taifa's anti-dumping duty rate.” Taifa stated again at page 6 of the December 26 Response “ . . . Taifa sold hand trucks to the United States without wheels.” Moreover, Taifa did not report wheels or the FOP for wheels in its FOP database. See Taifa's August 14 Response at Exhibit D-4. See also, Taifa's March 26, 2008, Supplemental Questionnaire Response at Question 11, where it submitted a chart indicating it made no sales of hand trucks with wheels to any market during the POR. At verification Department officials found hand truck production notices that included requirements/specifications for wheels. In addition, Department officials found commercial invoices that covered both hand trucks and wheels sold to the United States. Company officials stated that the hand trucks and wheels produced by Taifa (as well as wheels purchased by Taifa's customers from other parties) were packed in the same shipping container. Moreover, Taifa admitted that it did not attach wheels to the hand trucks to avoid paying dumping duties on the wheels. See Taifa Verification Report at pages 13 - 15. In addition, Department officials could not verify the ownership structure of Taifa because Taifa had failed to file a share transfer agreement with government authorities as required by Chinese law. See Taifa Verification Report at pages 5 - 7. Moreover, during verification at Taifa's production facility, Department officials requested that Taifa provide copies of warehouse out slips and production notices. Taifa officials repeatedly claimed that Taifa did not maintain copies of these records at the production facility and refused to answer certain questions with respect to these records. Department officials subsequently located these records, unassisted by Taifa officials, in the same building in which they had been requested. In addition, Department officials requested that Taifa provide its current production subledger to demonstrate that Taifa was currently in production of subject merchandise. Department officials requested this subledger five times over a period of 45 minutes, but it was not provided by Taifa officials. Subsequently, a Department official discovered company officials removing pages from this subledger. Further investigation by Department officials revealed that Taifa managers and employees were attempting to replace the removed pages with new pages that had just been created. See Taifa Verification Report at pages 11 -13. See also the accompanying Issues and Decision Memorandum at comment 1 and the memorandum to the file “Application of Adverse Facts Available for Qingdao Taifa Group Co., Ltd. in the Final Results in the Antidumping Duty Administrative Review of Hand Trucks and Certain Parts Thereof from the People's Republic of China,” dated July 14, 2008 (“AFA Memo”). Accordingly, because Taifa withheld information, significantly impeded the proceeding and provided information that could not be verified, we find that application of facts available is appropriate under sections 776(a)(2)(A), (B), and (C) of the Act. We further find that application of adverse facts available (“AFA”) is appropriate under section 776(b) because Taifa failed to cooperate to the best of its ability in responding to the Department's requests for information. Therefore, we are denying Taifa a separate rate and assigning it the PRC entity rate.

The PRC Entity

In the preliminary results, the Department preliminarily determined that there were exports of merchandise under review from Qingdao Future Tool, Inc. (“Future Tool”) and Shandong Machinery I&E Group Corp. (“Shandong Machinery”), PRC producers/exporters that did not respond to the Department's questionnaire and consequently did not demonstrate their eligibility for separate-rate status. See Preliminary Results at 2217. As a result, the Department is treating these PRC producers/exporters as part of the PRC-wide entity, in addition to Taifa.

Additionally, because we determined that Future Tool, Shandong Machinery and Taifa are part of the PRC entity, the PRC entity is under review. Pursuant to section 776(a) of the Act, we further find that because the PRC entity (including the companies discussed above) failed to respond to the Department's questionnaires, withheld or failed to provide information in a timely manner or in the form or manner requested by the Department, submitted information that cannot be verified, or otherwise impeded the proceeding, it is appropriate to apply a dumping margin for the PRC entity using the facts otherwise available on the record.

B. Adverse Facts Available

According to section 776(b) of the Act, if the Department finds that an interested party fails to cooperate by not acting to the best of its ability to comply with requests for information, the Department may use an inference that is adverse to the interests of that party in selecting from the facts otherwise available. See, e.g., Notice of Final Results of Antidumping Duty Administrative Review: Stainless Steel Bar from India, 70 FR 54023, 54025-26 (September 13, 2005); see also Notice of Final Determination of Sales at Less Than Fair Value and Final Negative Critical Circumstances: Carbon and Certain Alloy Steel Wire Rod from Brazil, 67 FR 55792, 55794-96 (August 30, 2002). Adverse inferences are appropriate “to ensure that the party does not obtain a more favorable result by failing to cooperate than if it had cooperated fully.” See SAA at 870. Furthermore, “affirmative evidence of bad faith on the part of a respondent is not required before the Department may make an adverse inference.” See Antidumping Duties; Countervailing Duties; Final Rule, 62 FR 27296, 27340 (May 19, 1997); see also Nippon Steel Corp. v. United States, 337 F.3d 1373, 1382 (Fed. Cir. 2003) (“Nippon”). The Department stated in the verification outline issued to Taifa on April 4, 2008, that “it is in your client's interest to cooperate since failure to permit verification may result in the Department relying on adverse “facts available” under section 776 of the Tariff Act of 1930, as amended . . . .” Taifa has not challenged the Department's characterization of Taifa's actions at verification as described in our verification report, and Taifa did not submit a case brief or rebuttal brief explaining its actions at verification.

Therefore, we find that the PRC entity has failed to cooperate by not acting to the best of its ability to comply with the Department's requests for information in this proceeding, within the meaning of section 776(b) of the Act. Therefore, an adverse inference is warranted in selecting from the facts otherwise available. See Nippon, 337 F.3d at 1382-83.

C. Selection of An AFA Rate

In deciding which facts to use as AFA, section 776(b) of the Act and 19 CFR 351.308(c)(1) authorize the Department to rely on information derived from: 1) the petition; 2) a final determination in the investigation; 3) any previous review or determination; or 4) any information placed on the record. The Department's practice, when selecting an AFA rate from among the possible sources of information, has been to ensure that the margin is sufficiently adverse “as to effectuate the statutory purposes of the adverse facts available rule to induce respondents to provide the Department with complete and accurate information in a timely manner.” See, e.g., Certain Polyester Staple Fiber from Korea: Final Results of the 2005-2006 Antidumping Duty Administrative Review, 72 FR 69663, 69664-65 (December 10, 2007) (selecting the petition rate, as adjusted at the initiation of the less than fair value investigation, as the AFA rate); Certain Warmwater Shrimp from the People's Republic of China: Notice of Final Results and Rescission, in Part, of 2004-2006 Antidumping Duty Administrative and New Shipper Reviews, 72 FR 52049, 52051 (Sept. 12, 2007) (assigning the petition rate from the less-than-fair-value investigation as the AFA rate). The Department's practice also ensures “that the party does not obtain a more favorable result by failing to cooperate than if it had cooperated fully.” See SAA at 870; see also Final Determination of Sales at Less than Fair Value: Certain Frozen and Canned Warmwater Shrimp from Brazil, 69 FR 76910, 76912 (December 23, 2004); Accordingly, the Department has assigned the rate of 383.60 percent to the PRC entity (including Taifa, Future Tool and Shandong Machinery) as AFA. This rate was assigned in the investigation of this proceeding and is the highest rate determined for any party in any segment of this proceeding. See Amended Final Determination of Sales at Less Than Fair Value: Hand Trucks and Certain Parts Thereof From the People's Republic of China, 69 FR 65410 (November 12, 2004) (Amended Final Determination).

Corroboration

Section 776(c) of the Act provides that, when the Department relies on secondary information rather than on information obtained in the course of an investigation or review, it shall, to the extent practicable, corroborate that information from independent sources that are reasonably at its disposal. Secondary information is defined as “information derived from the petition that gave rise to the investigation or review, the final determination concerning the subject merchandise, or any previous review under section 751 concerning the subject merchandise.” See SAA at 870. The SAA clarifies that “corroborate” means that the Department will satisfy itself that the secondary information to be used has probative value. See SAA at 870. To corroborate secondary information, the Department will, to the extent practicable, examine the reliability and relevance of the information to be used. The Department, however, need not prove that the selected facts available are the best alternative information. See SAA at 869; see also Tapered Roller Bearings and Parts Thereof, Finished and Unfinished From Japan, and Tapered Roller Bearings, Four Inches or Less in Outside Diameter, and Components Thereof, From Japan; Preliminary Results of Antidumping Duty Administrative Reviews and Partial Termination of Administrative Reviews, 61 FR 57391, 57392 (November 6, 1996) (unchanged in the final results). Independent sources used to corroborate such evidence may include, for example, “published price lists, official import statistics and customs data, and information obtained from interested parties during the instant investigation or review.” See 19 CFR 351.308(d) and SAA at 870; see also Notice of Preliminary Determination of Sales at Less Than Fair Value: High and Ultra-High Voltage Ceramic Station Post Insulators from Japan, 68 FR 35627, 35629 (June 16, 2003) (where the Department reviewed the adequacy and accuracy of the information in the petition) (unchanged in final determination); and Notice of Final Determination of Sales at Less Than Fair Value: Live Swine From Canada, 70 FR 12181, 12183 (March 11, 2005) (where the Department compared the normal values and U.S. prices submitted by the petitioners to data submitted by the respondents for whom the Department calculated a margin).

The reliability of the 383.60 percent AFA rate was determined in the final determination of the investigation when the Department compared the U.S. prices from the price quotations in the petition to prices of comparable products sold by a mandatory respondent in the investigation, and found them to be comparable. See Notice of Final Determination of Sales at Less Than Fair Value: Hand Trucks and Certain Parts Thereof from the People's Republic of China; 69 FR 60980, 60982 (October 14, 2004) and the memorandum cited therein: “Memorandum from John Brinkmann to the File,” dated October 6, 2004 (“October 6, 2004, Memo”). The Department applied this rate as AFA to the PRC entity, which included Qingdao Xinghua Group Co., Ltd. (“Xinghua”), in the Amended Final Determination.¹ The Department also compared the surrogate values used in the petition to the surrogate values selected for the final determination, and then adjusted and replaced certain values to make them more accurate. Finally, the Department replaced the surrogate value ratios in the petition with those used in the final investigation. Therefore, in the investigation, the Department found this margin to be reliable. See Amended Final Determination at 60982 and the October 6, 2004, Memo. The Department applied this rate in the first administrative review and new shipper review and in the preliminary results of this review.

¹ In the final determination, the Department applied total AFA to Xinghua, and assigned Xinghua the PRC-wide rate of 386.75 percent. See Notice of Final Determination of Sales at Less Than Fair Value: Hand Trucks and Certain Parts Thereof from the People's Republic of China, 69 FR 60980, 60984 (October 14, 2004). The Department revised the PRC-wide rate in the amended final determination from 386.75 percent to 383.60 percent. See Amended Final Determination, 69 FR at 65411.

The application of this 383.60 percent rate was subject to comment in the first administrative review of this proceeding. See Hand Trucks and Certain Parts Thereof From the People's Republic of China: Final Results of Administrative Review and Final Results of New Shipper Review, 72 FR 27287 (May 15, 2007) (“2004 - 2005 Review”) and after the preliminary results in this segment were issued. See Preliminary Results. The Department has received no information to date that warrants revisiting the issue of the reliability of the rate calculation itself. See, e.g., Certain Preserved Mushrooms From the People's Republic of China: Final Results and Partial Rescission of the New Shipper Review and Final Results and Partial Rescission of the Third Antidumping Duty Administrative Review, 68 FR 41304, 41307-41308 (July 11, 2003). Since no information has been presented in the current review that calls into question the reliability of this information, the Department finds the selected rate reliable.

With respect to the relevance aspect of corroboration, the Department will consider information reasonably at its disposal to determine whether a margin continues to have relevance. Where circumstances indicate that the selected margin is not appropriate as AFA, the Department will disregard the margin and determine an appropriate margin. For example, in Fresh Cut Flowers From Mexico: Final Results of Antidumping Duty Administrative Review, 61 FR 6812 (February 22, 1996), the Department disregarded the highest margin in that case as adverse best information available (the predecessor to facts available) because the margin was based on another company's uncharacteristic business expense resulting in an unusually high margin. Similarly, the Department does not apply a margin that has been discredited. See D&L Supply Co. v. United States, 113 F.3d 1220, 1221 (Fed. Cir. 1997) (where the Court ruled that the Department will not use a margin that has been judicially invalidated). Nothing on the record of this review calls into question the relevance of the margin selected as AFA. We cannot rely on data submitted by Taifa in the instant POR to corroborate the PRC-wide rate because Taifa did not submit FOP data for wheels and U.S. sales prices reported by Taifa did not cover wheels. Therefore, because Taifa did not provide certain data (as mentioned above), the Department is unable to calculate accurate dumping margins for corroboration purposes.

Moreover, this rate has not been invalidated judicially. Thus, it is appropriate to use the selected rate as AFA in the instant review. Therefore, we determine that the rate from the Amended Final Determination continues to be relevant for use in this administrative review.

As the recalculated Amended Final Determination rate is both reliable and relevant, we determine that it has probative value. As a result, the Department determines that the rate is corroborated for the purposes of this administrative review and may reasonably be applied to the PRC entity, as AFA. Accordingly, we determine that the rate of 383.60 percent, which is the highest rate from any segment of this administrative proceeding, meets the corroboration criteria established in section 776(c) of the Act that secondary information have probative value.

Separate Rates

In proceedings involving non-market economy (“NME”) countries, the Department begins with a rebuttable presumption that all companies within the country are subject to government control and, thus, should be assigned a single antidumping duty deposit rate. It is the Department's policy to assign all exporters of merchandise subject to review in an NME country this single rate unless an exporter can demonstrate that it is sufficiently independent so as to be entitled to a separate rate. Since we determined it is appropriate to apply total AFA to the PRC entity (including Future Tool, Shandong Machinery, and Taifa) and it is the Department's current practice to deny a separate rate to respondents subject to an AFA rate, we are changing our preliminary determination and finding that Taifa is no longer eligible for a separate rate, and is subject to the PRC-wide rate of 383.60 percent.

Changes Since the Preliminary Results

Based on our analysis of comments received, and as stated above, Taifa is no longer eligible for a separate rate and is subject to the PRC-wide AFA rate of 383.60 percent. See the Issues and Decision Memorandum at Comments 1 and 2 and the AFA Memo for further discussion.

Final Results of Review

We determine that the following dumping margin exists for the period June 1, 2005, through May 31, 2006:

Exporter | Weighted-Average Margin (Percent)
PRC Entity | 383.60

Assessment Rates

Pursuant to section 751(a)(2)(A) of the Act and 19 CFR 351.212(b)(1), the Department will determine, and CBP shall assess, antidumping duties on all appropriate entries. The Department intends to issue assessment instructions to CBP 15 days after the date of publication of these final results of review.

Cash Deposit Requirements

The following cash deposit requirements will be effective upon publication of the final results of this administrative review for all shipments of the subject merchandise entered, or withdrawn from warehouse, for consumption on or after the publication date, as provided for by section 751(a)(2)(C) of the Act: (1) for previously investigated or reviewed PRC and non-PRC exporters that have separate rates, the cash deposit rate will continue to be the exporter-specific rate published for the most recent period; (2) for all PRC exporters of subject merchandise that have not been found to be entitled to a separate rate, including Taifa, Shandong Machinery, Future Tool, and those companies for which this review has been rescinded, the cash deposit rate will be the PRC-wide rate of 383.60 percent; and (3) for all non-PRC exporters of subject merchandise which have not received their own rate, the cash deposit rate will be the rate applicable to the PRC exporters that supplied that non-PRC exporter. These deposit requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing these final results and notice in accordance with sections 751(a)(1) and 777(i)(1) of the Act.

Dated: July 14, 2008.
David M. Spooner,
Assistant Secretary for Import Administration.

List of Comments

Comment 1: Application of AFA to Taifa Based Upon Taifa's Failure at Verification

Comment 2: Application of the PRC-Wide Rate to Taifa

Comment 3: Use of FA or AFA to Because Taifa Failed to Report FOPs for Wheels

Comment 4: Domestic Inland Freight

Comment 5: Wage Rates

Comment 6: Application of AFA to Taifa's Unreported Sales

Comment 7: Surrogate Value for V-Belt

Comment 8: Inflation Adjustment for Surrogate Value for Electricity

Comment 9: Market-Economy Inputs from South Korea

Comment 10: Surrogate Value for Marine Insurance

Comment 11: International Freight

Comment 12: Surrogate Value for Coal

Comment 13: Deflation Adjustment for Surrogate Values for Diesel Oil and Coal

Comment 14: Inflation Adjustment for Foreign Inland Truck Freight

Comment 15: Calculation of Domestic Inland Freight and Domestic Brokerage and Handling

[FR Doc. E8-17252 Filed 7-25-08; 8:45 am]

BILLING CODE 3510-DS-S